Proclamation 10699 of January 31, 2024

National Black History Month, 2024

By the President of the United States of America

A Proclamation

This National Black History Month, we celebrate the vast contributions of Black Americans to our country and recognize that Black history is American history and that Black culture, stories, and triumphs are at the core of who we are as a Nation.

The soul of America is what makes us unique among all nations. We are the only country in the world founded on an idea. It is the idea that we are all created equal and deserve to be treated with equal dignity throughout our lives. While we still grapple today with the moral stain and vestiges of slavery—our country's original sin—we have never walked away from the fight to fully realize the promise of America for all Americans. Throughout our history, Black Americans have never given up on the promise of America. Unbowed by the forces of hate and undaunted as they fought for centuries against slavery, segregation, and injustice, Black Americans have held a mirror up to our Nation, allowing our country to confront hard truths about who we are and pushing us to live up to our founding ideals. They have helped redeem the soul of our Nation, ensuring the promises in our founding documents were not just words on a page but a lived reality for all people. In the process, the vibrancy of Black history and culture has enriched every aspect of American life.

Since taking office, the Vice President and I have worked to continue this legacy of progress and lay down a foundation for a stronger, more equitable Nation. On my first day as President, I signed a historic Executive Order on Advancing Racial Equity and Support for Underserved Communities Through the Federal Government. In February 2023, I signed an additional Executive Order to acknowledge the unbearable human costs of systemic racism and to direct the entire Federal Government to advance equity for those who have been historically underserved, marginalized, and adversely affected by persistent discrimination, poverty, and inequality, including the Black community. That includes building an economy that grows from the middle out and bottom up, not the top down. So far, we have created over 14 million jobs and in 2023, the Black unemployment rate was lower than in any other year on record.

We are addressing historic health inequities for Black Americans by making systemic changes to our health care systems that increase healthcare access while lowering costs. Today, more Black Americans have health insurance than at any previous time in American history. We are working to address the Black maternal health crisis—ensuring dignity, safety, and support for Black moms. The Vice President has helped elevate this critical issue to a national priority by calling on States to extend Medicaid postpartum coverage from two months to one year.

My Administration is also working to close racial gaps in education and economic opportunity. To that end, we have delivered over $7 billion in funding for Historically Black Colleges and Universities and are working to expand access to home-ownership—a major source of generational wealth for families—while aggressively combating racial discrimination in housing. Our update to the Thrifty Food Plan is keeping 400,000 Black kids out of poverty every month and making sure millions more have enough food to eat. By 2025, we are working to ensure that 15 percent of Federal contracting dollars goes to small disadvantaged businesses, including Black-owned small businesses. We are also replacing poisonous lead pipes so every American can turn on a faucet at home or school and drink clean water.

To deliver equal justice under the law, we are appointing judges to the Federal bench who reflect all of America, including Supreme Court Justice Ketanji Brown Jackson and more Black women to the Federal circuit courts than all previous administrations combined. I also signed a historic Executive Order that implemented key elements of the George Floyd Justice in Policing Act: banning chokeholds and restricting no knock warrants by Federal law enforcement, creating a national database of officer misconduct, and promoting effective and accountable community policing that advances public trust and safety. I also signed the first major gun safety legislation in nearly 30 years as well as a long-overdue law to make lynching a Federal hate crime in Emmett Till's name. My Administration continues to call on the Congress to pass the John Lewis Voting Rights Advancement Act and the Freedom to Vote Act to secure the right to vote for every American.

Today, I am reminded of something Amelia Boynton said when reflecting on her march across the Edmund Pettus Bridge on what would be known as Bloody Sunday: “You can never know where you're going unless you know where you've been.” America is a great Nation because we choose to learn the good, the bad, and the full truth of the history of our country—histories and truths that we must preserve and protect for the next generation. This National Black History Month, as we remember where we have been, may we also recognize that our only way forward is by marching together.

NOW, THEREFORE, I, JOSEPH R. BIDEN JR., President of the United States of America, by virtue of the authority vested in me by the Constitution and the laws of the United States, do hereby proclaim February 2024 as National Black History Month. I call upon public officials, educators, librarians, and all the people of the United States to observe this month with relevant programs, ceremonies, and activities.

IN WITNESS WHEREOF, I have hereunto set my hand this thirty-first day of January, in the year of our Lord two thousand twenty-four, and of the Independence of the United States of America the two hundred and forty-eighth.

[FR Doc. 2024-02344

Filed 2-2-24; 8:45 am]

Billing code 3395-F4-P